DEPARTMENT OF JUSTICE

Notice of Lodging of Consent Decree Pursuant to the Comprehensive Environmental Response, Compensation, and Liability Act

In accordance with Departmental policy and 28 CFR 50.7, notice is hereby given that a Consent Decree in United States v. Occidental Chem. Corp., Civ. A. No. 4:CV-98-0686, was lodged on August 2, 2002, with the United States District Court for the Middle District of Pennsylvania.

In this action, the United States sought recovery of past and future response costs under section 107 of the Comprehensive Environmental Response, Compensation, and Liability Act (“CERCLA”), 42 U.S.C. 9607, the imposition of a civil penalty under Section 106 of CERCLA, 42 U.S.C. 9606, due to Occidental Chemical Corporation's (“Occidental”) failure to comply with EPA's 1997 Unilateral Administrative Order (“UAO”), Docket No. III-97-79-DC, and injunctive relief requiring Occidental to comply with the UAO in the future. Under the Consent Decree, Occidental will pay the United States $561,000 for past and future response costs incurred or to be incurred in connection with the clean-up of the Centre County Kepone Superfund Site (“the Site”), located in State College, Centre County, Pennsylvania.

Furthermore, in order to fulfill its obligations under the UAO, which directed Occidental to “participate and cooperate” in performing the response actions at Operable Unit #1 (“OU-1”) of the Site with Ruetgers Organics Corporation (“ROC”), Occidental will make a good faith offer to ROC of at least $220,000 as its appropriate share of the response actions to be performed under the UAO. If ROC rejects Occidental's good faith offer, Occidental will instead pay $220,000 to the EPA Hazardous Substance Superfund in reimbursement for response costs incurred in connection with OU-1 at the Site.

Finally, to resolve its failure to comply with the UAO, Occidental will pay a civil penalty of $21,000 and perform a Supplemental Environmental Project (“SEPP”), involving the acquisition of an environmental easement, the Hartle Farm, at a cost of at least $84,000.

The Department of Justice will receive, for a period of not less than thirty (30) days from the date of this publication, comments relating to the proposed Consent Decree. Comments should be addressed to the Assistant Attorney General, Environment and Natural Resources Division, Department of Justice, P.O. Box 7611, Washington, DC 20044-7611, and should refer to United States v. Occidental Chem. Corp. (4:CV-98-0686), DOJ Ref. #90-11-3-1436A.

The Consent Decree may be examined at the Office of the United States Attorney, 228 Walnut Street, Room 220, Harrisburg, PA 17108, and at the Region III Office of the Environmental Protection agency, 1650 Arch Street, Philadelphia, Pennsylvania 19103. A copy of the proposed Consent Decree may be obtained by mail from the Consent Decree Library, Department of Justice, P.O. Box 7611, Washington, DC 20044-7611, or by faxing a request to Tonia Fleetwood at (202) 514-0097 [Phone confirmation number (202) 514-1547]. In requesting a copy from the Consent Decree Library, please refer to the referenced case and enclose a check in the amount of $10.25 (25 cents per page reproduction cost), payable to the United States Treasury.

Robert Brook,
Assistant Section Chief, Environmental Enforcement Section, Environment and Natural Resources Division, Department of Justice.

[FR Doc. 02-21369 Filed 8-21-02; 8:45 am]

BILLING CODE 4410-15-M